DEPARTMENT OF LABOR

Employment and Training Administration

[TA-W-70,201]

Tivoly, Inc., Derby Line, VT; Notice of Negative Determination on Reconsideration

On November 16, 2009, the Department issued an Affirmative Determination Regarding Application for Reconsideration for the workers and former workers of the subject firm. The notice was published in the Federal Register on December 8, 2009 (74 FR 64,711).

The initial investigation resulted in a negative determination based on the finding that imports of cutting tools did not contribute importantly to worker separations at the subject firm and no shift of production to a foreign source occurred.

In the request for reconsideration, the International Association of Machinists and Aerospace Workers, Local Lodge 1829, requested that additional customer surveys be done beyond the two that had been completed during the earlier investigation.

In response to that request, the Department of Labor conducted a survey of five more major declining customers of the subject firm regarding their purchases of cutting tools, taps, and reamers during 2007, 2008, and during the months of January through May 2008 and January through May 2009.

Those five surveys, added to the two surveys completed during the investigation, included customers who accounted for 89 percent of the subject firm's total sales during 2007 and 2008, and customers who accounted for 65 percent of the total subject firm's total sales during the period January through May 2009.

The customers surveyed also accounted for 89 percent of the decline in total subject firm sales from 2007 to 2008, and 88 percent of the decline in total subject firm sales during the period January through May 2009 as compared with the same five months in 2008.

Those surveys showed customer imports of cutting tools, taps, and reamers to be insignificant as a percent of total subject firm sales during 2007 and 2008, and showed that there were no customer imports of cutting tools during the period January through May 2009.

Conclusion

After reconsideration, I affirm the original notice of negative determination of eligibility to apply for worker adjustment assistance for workers and former workers of Tivoly, Inc., Derby Line, Vermont.

Signed at Washington, DC this 27th day of May 2010.
Del Min Amy Chen,
Certifying Officer, Division of Trade Adjustment Assistance.

[FR Doc. 2010-14453 Filed 6-15-10; 8:45 am]

BILLING CODE 4510-FN-P